DEPARTMENT OF ENERGY

Office of Energy Efficiency and Renewable Energy

[Case No. RF-022]

Decision and Order Granting a Waiver to Sanyo From the Department of Energy Residential Refrigerator and Refrigerator-Freezer Test Procedures; Correction

AGENCY: Office of Energy Efficiency and Renewable Energy, Department of Energy.

ACTION: Notice of correction.

SUMMARY: The U.S. Department of Energy (DOE) published a decision and order (Case No. RF-022) in the Federal Register on August 16, 2012 (77 FR 49443) that grants Sanyo E&E Corporation (Sanyo) a waiver from the DOE electric refrigerator and refrigerator-freezer test procedures for determining the energy consumption of residential refrigerator-freezers for the basic models set forth in its petition for waiver. This Notice of Correction includes information that was inadvertently omitted from the decision and order which was contained in the petition for wavier pertaining to a correction factor which is needed to calculate the energy efficiency. This information was included in the petition for waiver published in the Federal Register on April 2, 2012 (77 FR 19654).

DATES: This Notice of Correction is effective October 4, 2012.

FOR FURTHER INFORMATION CONTACT:

Mr. Bryan Berringer, U.S. Department of Energy, Building Technologies Program, Mailstop EE-2J, 1000 Independence Avenue SW., Washington, DC 20585-0121. Telephone: (202) 586-0371, Email: Bryan.Berringer@ee.doe.gov.

Ms. Elizabeth Kohl, U.S. Department of Energy, Office of the General Counsel, Mail Stop GC-71, 1000 Independence Avenue SW., Washington, DC 20585-0103, (202) 586-7796, Email: Elizabeth.Kohl@hq.doe.gov.

Correction

In FR Doc. 2012-20125 published in the Federal Register on August 16, 2012 (77 FR 49443), the following correction should be made:

Page 49444, first column, “III. Conclusion,” paragraph (3) is corrected by adding the following paragraph after the first paragraph in that section:

Sanyo shall also use the K factor (correction factor) value of 0.85 when calculating the energy consumption of one of the models listed above. Therefore, the energy consumption is defined by the higher of the two values calculated by the following two formulas (according to 10 CFR part 430, subpart B, Appendix A1):

Energy consumption of the wine compartment:

EWine = ET1 + [(ET2−ET1) × (55 °F−TW1)/(TW2−TW1)] *0.85

Energy consumption of the refrigerated beverage compartment:

EBeverage Compartment = ET1 + [(ET2−ET1) × (38 °F−TBC1)/(TBC2−TBC1)].

Issued in Washington, DC, on September 26, 2012.
Kathleen B. Hogan,
Deputy Assistant Secretary for Energy Efficiency, Energy Efficiency and Renewable Energy.

[FR Doc. 2012-24488 Filed 10-3-12; 8:45 am]

BILLING CODE 6450-01-P